DEPARTMENT OF COMMERCE

National Oceanic and Atmospheric Administration

RIN 0648-XF508-X

Marine Mammals; File No. 20556

AGENCY: National Marine Fisheries Service (NMFS), National Oceanic and Atmospheric Administration (NOAA), Commerce.

ACTION: Notice; receipt of application.

SUMMARY: Notice is hereby given that the Georgia Department of Natural Resources [Jonathan Ambrose, Responsible party] 2070 U.S. Highway 278 Southeast, Social Circle, GA 30025, has applied in due form for a permit to conduct research on marine mammals.

DATES: Written, telefaxed, or email comments must be received on or before August 14, 2017.

ADDRESSES: The application and related documents are available for review by selecting “Records Open for Public Comment” from the “Features” box on the Applications and Permits for Protected Species (APPS) home page, https://apps.nmfs.noaa.gov, and then selecting File No. 20556 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant requests a 5-year permit to take marine mammals for research in the Atlantic Ocean and off the west coast of Florida during vessel and manned and unmanned aerial surveys. The objectives of the research are to continue North Atlantic right whale (NARW; Eubalaena glacialis) population monitoring efforts, identifying and reducing human causes of mortality and serious injury, monitoring and protecting NARW habitat, and helping to implement the NARW Recovery Plan. Up to 500 endangered NARWs, and 50 non-listed humpback whales (Megaptera novaeangliae) may be targeted annually for research activities including counts, behavioral observations, photography, photo-identification, photogrammetry, video recording, and passive acoustic recording. Biological samples, including sloughed skin, fecal, breath, and skin and blubber biopsies, may be collected from 95 NARW adults or juveniles and 60 NARW calves annually, and these samples may be exported and re-imported for analysis. Up to 15 NARWs may be tagged each year with either traditional dart/barb tags or suction-cup tags. Additional marine mammals that may be harassed incidental to research include up to 50 each of endangered sei whales (Balaenoptera borealis) and non-listed long-finned pilot whales (Globicephala melas), and 500 each of Atlantic white-sided (Lagenorhynchus acutus), Atlantic spotted (Stenella frontalis), and bottlenose (Tursiops truncatus) dolphins, annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 7, 2017.
Catherine Marzin,
Acting Deputy Director, Office of Protected Resources, National Marine Fisheries Service.

[FR Doc. 2017-14635 Filed 7-12-17; 8:45 am]

BILLING CODE 3510-22-P